DEPARTMENT OF COMMERCE

U.S. Census Bureau

Proposed Information Collection; Comment Request; 2016-2018 American Community Survey Methods Panel Testing

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before March 23, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Cheryl Chambers, Rm. 3K067, U.S. Census Bureau, American Community Survey Office, Washington, DC 20233, by FAX to (301) 763-8070 or email at acso.communications@census.gov.

SUPPLEMENTARY INFORMATION:

I. Abstract

The American Community Survey (ACS) collects detailed socioeconomic data from about 3.5 million addresses in the United States and 36,000 in Puerto Rico each year. The ACS also collects detailed socioeconomic data from about 195,000 residents living in Group Quarter (GQ) facilities. Resulting tabulations from that data collection are provided on a yearly basis. The ACS allows the Census Bureau to provide timely and relevant housing and socioeconomic statistics, even for low levels of geography.

An ongoing data collection effort with an annual sample of this magnitude requires that the ACS continue research, testing and evaluations aimed at improving data quality, achieving survey cost efficiencies, and improving ACS questionnaire content and related data collection materials. The ACS Methods Panel is a research program that is designed to address and respond to survey issues and needs. During the 2016-2018 period, the Methods Panel may include testing methods for increasing survey efficiencies, reducing survey cost, lessening respondent burden, and improving response rates. Testing may also include methods to improve data quality.

At this time, plans are in place to propose several tests: a 2016 ACS Content Test, a 2016 mail messaging test, a 2017 self-response test with the potential to test both mail messaging as well as questionnaire content, a 2018 self-response test building on the previous tests, as well as tests of Internet data collection enhancements in 2017 and 2018. Since the ACS Methods Panel is designed to address emerging issues, we may conduct additional testing as needed. Any additional testing would focus on methods for reducing data collection costs, improving data quality, revising content, or testing new questions that have an urgent need to be included on the ACS.

In response to Federal agencies' requests for new and revised ACS questions, the Census Bureau plans to conduct the 2016 ACS Content Test. In 2014, the Office of Management and Budget Interagency Committee for the ACS identified candidate versions of the requested new and revised questions, to be finalized in 2015. The objective of the 2016 ACS Content Test, for both new and existing questions, is to determine the impact of changing question wording and response categories, and redefining underlying constructs, on the quality of the data collected. The Census Bureau proposes to evaluate changes to the questions by comparing the revised questions to the current ACS questions, or for new questions, to compare the performance of two question versions to each other as well as to other well-known sources of such information.

In response to declining response rates and increasing costs, the Census Bureau plans to study methods to increase self-response, the least expensive mode of data collection, especially Internet response. The tests would include changes to messages included in mail materials to motivate the public to respond to the ACS, increase awareness of the ACS, as well as changes to design elements of the materials, including color and graphics. The tests would be conducted in series, in 2016, 2017, and 2018, building on previous tests' findings. Additionally, the test in 2017, and possibly 2018, may include content changes based on continued review of the ACS content for respondent burden. The Census Bureau will assess the impact on data quality of the changes to the questions.

The ACS began collecting data using the Internet in January 2013. To date, the Web site used to collect the data is designed for a desktop computer screen. The Internet tests being proposed would evaluate Internet data collection via mobile devices, examine ways to reduce Internet break-offs, email testing, as well as other improvements to Internet data collection.

II. Method of Collection

2016 Content Test—The ACS Content Test data collection protocol will be based on the protocol used in the production ACS. That is, we will collect data across four modes (Internet, mail, Computer Assisted Telephone Interviews (CATI), and Computer Assisted Personal Interviews (CAPI). There will also be a Content Follow-up reinterview as part of the content test where we will attempt a follow-up CATI reinterview with all households that responded in the field test and for whom we have a telephone number. This reinterview will focus on the particular questions that we are evaluating in the field test, and will not include every question asked in the original interview.

2016 Mail Messaging Test—We will use the same modes we offer in ACS production in the first month of data collection for the self-response test; that is, Internet and a mail-back paper questionnaire. No CATI or CAPI interviews are necessary for this test. Different strategies to encourage self-response may be used, including changes to the number and timing of the mailings as well as the materials included in each mailing.

2017 Self-Response Test—We will use the same modes we offer in ACS production in the first month of data collection for the self-response test; that is, Internet and a paper questionnaire. For the portions of the test that include content changes, CATI and CAPI interviews are necessary. Different mail materials to encourage self-response may be used, including changes to the number of mailings as well as the materials included in each mailing. For the portions of the test that include content changes, a follow-up CATI reinterview will be conducted with all households that responded in the field test and for whom we have a telephone number. This reinterview will focus on the particular questions that we are evaluating in the field test, and will not include every question asked in the original interview.

Internet Tests in 2017 and 2018—We will use the same modes we offer in ACS production in the first month of data collection for the Internet tests; that is, we will send a mailing asking sampled units to respond online, with a nonresponse follow-up mailing of a paper questionnaire about two and a half weeks later. There are no plans to conduct CATI or CAPI nonresponse follow-up on test cases.

2018 Self-Response Test—We will use Internet and a paper questionnaire for this test and include different mailing strategies. CATI and CAPI interviews, as well as Content Followup, may be necessary for this test if content changes are tested.

III. Data

OMB Control Number: 0607-0936.

Form Number(s): ACS-1, ACS-1(PR)SP, ACS CATI(HU), ACS CAPI(HU) and ACS RI(HU).

Type of Review: Regular submission.

Affected Public: Individuals and households.

Estimated Number of Respondents: We plan to contact the following number of respondents:

2016 Content Test—70,000 sampled addresses during the field test and 40,000 responding addresses during the content follow-up conducted by telephone.

2016 Mail Messaging Test—60,000 sampled addresses.

2017 Self-Response Test—60,000 sampled addresses and 35,000 responding addresses during the content follow-up conducted by telephone.

Internet Tests in 2017 and 2018—108,000 sampled addresses each.

2018 Self-Response Test—60,000 sampled addresses and 35,000 responding addresses during the content follow-up conducted by telephone.

Estimated Time per Response: Estimates are: 2016 Content Test, 40 minutes, Content follow-up, 15 minutes; Mail Messaging Test, 40 minutes; 2017 and 2018 Self-Response Test, 40 minutes, Content follow-up, 15 minutes; Internet Tests, 40 minutes.

Estimated Total Annual Burden Hours: The estimate is an annual average of 112,722 hours.

Estimated Total Annual Cost to Public: Except for their time, there is no cost to respondents.

Respondent's Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2015.
Glenna Mickelson,
Management Analyst, Office of the Chief Information Officer.

[FR Doc. 2015-00934 Filed 1-21-15; 8:45 am]

BILLING CODE 3510-07-P